NATIONAL AERONAUTICS AND SPACE ADMINISTRATION

[Notice: 024-030]

Heliophysics Advisory Committee; Meeting

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Monday, June 17, 2024, 10 a.m. to 5 p.m. and Tuesday, June 18, 2024, 9:30 a.m. to 5 p.m., eastern time.

ADDRESSES: NASA Headquarters, Room 3H42, 300 E Street, SW, Washington, DC 20546.

FOR FURTHER INFORMATION CONTACT: Ms. KarShelia Kinard, Science Mission Directorate, NASA Headquarters, Washington, DC 20546, (202) 358-2355 or karshelia.kinard@nasa.gov.

SUPPLEMENTARY INFORMATION: This meeting will be open to the public up to the capacity of the room. The meeting will be available telephonically and via WebEx. Any interested person must use a touch-tone phone to participate in this meeting. To join by telephone, the numbers are: 1-929-251-9612 USA Toll (New York City) or 1-415-527-5035 USA Toll, for each day.

The WebEx link is https://nasaenterprise.webex.com/nasaenterprise/j.php?MTID=m6d2bc441020eb56ffe9e8e1433e790c7 and the meeting number is 2827 630 2015. The password is HPACSummer2024$ (47227866 from phones and video systems, case sensitive), for each day.

The agenda for the meeting includes the following topics:

• Heliophysics Division (HPD) News, Updates, and New Initiatives

• Specific HPD Research and Analysis Program, Operating Mission and Mission Planning Topics

All attendees are required to register in NASA's Enterprise Visitor Access Management System prior to visit. You will be requested to comply with NASA Headquarters security requirements, including the presentation of a valid picture ID to Security before access to NASA Headquarters in addition to Foreign nationals attending this meeting will be required to provide a copy of their passport and visa in addition to providing the following information no less than 10 days prior to the meeting: full name; gender; date/place of birth; citizenship; passport information (number, country, telephone); visa information (number, type, expiration date); employer/affiliation information (name of institution, address, country, telephone); title/position of attendee. To expedite admittance, attendees with U.S. citizens and Permanent Residents (green card holders) may provide full name, citizenship and email address no less than 3 working days in advance by contacting Ms. KarShelia Kinard via email at karshelia.kinard@nasa.gov.

It is imperative that the meeting be held on this date to accommodate the scheduling priorities of the key participants.

Carol J. Hamilton,
Acting Advisory Committee Management Officer, National Aeronautics and Space Administration.

[FR Doc. 2024-07834 Filed 4-12-24; 8:45 am]

BILLING CODE 7510-13-P